FEDERAL COMMUNICATIONS COMMISSION

47 CFR Part 73

[DA 04-1623; MB Docket No. 04-218; RM-10987]

Radio Broadcasting Services; Las Vegas and Pecos, NM

AGENCY: Federal Communications Commission.

ACTION: Proposed rule.

SUMMARY: This Notice of Proposed Rule Making requests comments on a petition for rule making filed by KFUN/KLVF Inc. (“Petitioner”), the former licensee of Station KLVF(FM), Channel 264C3, Las Vegas, New Mexico. The current licensee of Station KLVF(FM) is Meadows Media, LLC. This document proposes to reallot Station KLVF(FM) from Las Vegas to Pecos, New Mexico, and to provide Pecos with its third local aural transmission service. In addition, the document proposes to allot Channel 296A to Las Vegas, New Mexico. The coordinates for requested Channel 264C3 at Pecos, New Mexico, are 35-40-48 NL and 105-32-26 WL, with a site restriction of 17.4 kilometers (10.8 miles) northeast of Pecos. The coordinates for requested Channel 296A at Las Vegas, New Mexico, are 35-36-33 NL and 105-09-31 WL, with a site restriction of 5.4 kilometers (3.3 miles) east of Las Vegas.

Petitioner's reallotment proposal complies with the provisions of Section 1.420(i) of the Commission's Rules, and therefore, the Commission will not accept competing expressions of interest in the use of Channel 264C3 at Pecos, New Mexico, or require the petitioner to demonstrate the availability of an additional equivalent class channel.

DATES: Comments must be filed on or before August 9, 2004, and reply comments on or before August 24, 2004.

ADDRESSES: Secretary, Federal Communications Commission, 445 12th Street, SW., Room TW-A325, Washington, DC 20554. In addition to filing comments with the FCC, interested parties should serve counsel for Meadows Media, LLC: Paul H. Brown, Esq, Wood, Maines & Brown, Chartered; 1827 Jefferson Place, NW., Washington, DC 20036.

FOR FURTHER INFORMATION CONTACT: R. Barthen Gorman, Media Bureau, (202) 418-2180.

SUPPLEMENTARY INFORMATION: This is a synopsis of the Commission's Notice of Proposed Rule Making, MB Docket No. 04-218, adopted June 8, 2004, and released June 10, 2004. The full text of this Commission decision is available for inspection and copying during regular business hours in the FCC's Reference Information Center at Portals II, 445 12th Street, SW., CY-A257, Washington, DC, 20554. This document may also be purchased from the Commission's duplicating contractors, Best Copy and Printing, Inc., Portals II, 445 12th Street, SW., Room CY-B402, Washington, DC, 20554, telephone 202-863-2893, facsimile 202-863-2898.

The provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, See 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334, and 336.

§ 73.202 [Amended]

2. Section 73.202(b), the Table of FM Allotments under New Mexico, is amended by removing Channel 264C3 and by adding Channel 296A at Las Vegas; and by adding Channel 264C3 at Pecos.

Federal Communications Commission.
John A. Karousos
Assistant Chief, Audio Division, Media Bureau.

[FR Doc. 04-14484 Filed 6-24-04; 8:45 am]

BILLING CODE 6712-01-U